DEPARTMENT OF ENERGY

Federal Energy Regulatory Commission

Combined Notice of Filings #1

Take notice that the Commission received the following exempt wholesale generator filings:

Docket Numbers: EG23-131-000.

Applicants: Big Elm Solar, LLC.

Description: Big Elm Solar, LLC submits Notice of Self-Certification of Exempt Wholesale Generator Status.

Filed Date: 4/24/23.

Accession Number: 20230424-5095.

Comment Date: 5 p.m. ET 5/15/23.

Docket Numbers: EG23-132-000.

Applicants: Angelo Storage, LLC.

Description: Angelo Storage, LLC submits Notice of Self-Certification of Exempt Wholesale Generator Status.

Filed Date: 4/24/23.

Accession Number: 20230424-5135.

Comment Date: 5 p.m. ET 5/15/23.

Take notice that the Commission received the following electric rate filings:

Docket Numbers: ER15-1873-017; ER16-1720-023; ER18-471-011; ER21-2137-007.

Applicants: IR Energy Management LLC, States Edge Wind I LLC, Invenergy Energy Management LLC, Buckeye Wind Energy LLC.

Description: Notice of Change in Status of Buckeye Wind Energy LLC, et al.

Filed Date: 4/21/23.

Accession Number: 20230421-5246.

Comment Date: 5 p.m. ET 5/12/23.

Docket Numbers: ER18-1667-008; ER18-2327-006; ER19-846-008; ER19-847-008; ER19-2527-003; ER20-1953-001; ER20-1596-004; ER20-1597-004; ER20-1599-004; ER20-2065-003; ER20-2066-003; ER20-2519-002; ER21-2156-003; ER21-2289-002; ER21-2766-002.

Applicants: Central Line Solar, LLC, Clover Creek Solar, LLC, Antelope Expansion 1B, LLC, East Line Solar, LLC, Antelope Expansion 3B, LLC, Antelope Expansion 3A, LLC, Richmond Spider Solar, LLC, Pleinmont Solar 2, LLC, Pleinmont Solar 1, LLC, Highlander Solar Energy Station 1, LLC, Prevailing Wind Park, LLC, San Pablo Raceway, LLC, Antelope DSR 3, LLC, Riverhead Solar Farm, LLC, Antelope Expansion 2, LLC.

Description: Notice of Change in Status of Antelope Expansion 2, LLC, et al.

Filed Date: 4/19/23.

Accession Number: 20230419-5282.

Comment Date: 5 p.m. ET 5/10/23.

Docket Numbers: ER22-296-001.

Applicants: Jackson Generation, LLC.

Description: Notice of Change in Status of Jackson Generation, LLC.

Filed Date: 4/19/23.

Accession Number: 20230419-5281.

Comment Date: 5 p.m. ET 5/10/23.

Docket Numbers: ER23-317-002.

Applicants: Riverstart Solar Park LLC.

Description: Tariff Amendment: Response to Deficiency Letter Under Docket ER23-317 to be effective 11/2/2022.

Filed Date: 4/24/23.

Accession Number: 20230424-5195.

Comment Date: 5 p.m. ET 5/15/23.

Docket Numbers: ER23-1263-001.

Applicants: PJM Interconnection, L.L.C.

Description: Tariff Amendment: Amendment of Notice of Cancellation, SA No. 5310; Queue No. AB2-174 in ER23-1467 to be effective 5/8/2023.

Filed Date: 4/24/23.

Accession Number: 20230424-5140.

Comment Date: 5 p.m. ET 5/15/23.

Docket Numbers: ER23-1467-001.

Applicants: PJM Interconnection, L.L.C.

Description: Tariff Amendment: Amendment of Original NSA, SA No. 6857; Queue No. AC1-168, Docket No. ER23-1467 to be effective 5/28/2023.

Filed Date: 4/24/23.

Accession Number: 20230424-5153.

Comment Date: 5 p.m. ET 5/15/23.

Docket Numbers: ER23-1691-000.

Applicants: PJM Interconnection, L.L.C.

Description: § 205(d) Rate Filing: Amendment to WMPA, Service Agreement No. 5754; Queue No. AF2-289 to be effective 6/23/2023.

Filed Date: 4/24/23.

Accession Number: 20230424-5031.

Comment Date: 5 p.m. ET 5/15/23.

Docket Numbers: ER23-1692-000.

Applicants: PJM Interconnection, L.L.C.

Description: § 205(d) Rate Filing: Original ISA, SA No. 6874 and CSA, SA No. 6875; Queue No. AD2-086/AE1-090 to be effective 3/24/2023.

Filed Date: 4/24/23.

Accession Number: 20230424-5053.

Comment Date: 5 p.m. ET 5/15/23.

Docket Numbers: ER23-1693-000.

Applicants: Lucky Corridor, LLC.

Description: Application for Renewed Negotiated Rate Authority of Lucky Corridor, LLC.

Filed Date: 4/20/23.

Accession Number: 20230420-5248.

Comment Date: 5 p.m. ET 5/11/23.

Docket Numbers: ER23-1694-000.

Applicants: Alabama Power Company, Georgia Power Company, Mississippi Power Company.

Description: § 205(d) Rate Filing: Alabama Power Company submits tariff filing per 35.13(a)(2)(iii: Tri-State Solar Project Second Amended and Restated LGIA Filing to be effective 4/12/2023.

Filed Date: 4/24/23.

Accession Number: 20230424-5107.

Comment Date: 5 p.m. ET 5/15/23.

Docket Numbers: ER23-1695-000.

Applicants: Alabama Power Company, Georgia Power Company, Mississippi Power Company.

Description: § 205(d) Rate Filing: Alabama Power Company submits tariff filing per 35.13(a)(2)(iii: Tri-State Solar Project (Phase 2) Amended and Restated LGIA Filing to be effective 4/12/2023.

Filed Date: 4/24/23.

Accession Number: 20230424-5108.

Comment Date: 5 p.m. ET 5/15/23.

Docket Numbers: ER23-1696-000.

Applicants: Tri-State Generation and Transmission Association, Inc.

Description: § 205(d) Rate Filing: Initial Filing of Rate Schedule FERC No. 354 to be effective 4/18/2023.

Filed Date: 4/24/23.

Accession Number: 20230424-5137.

Comment Date: 5 p.m. ET 5/15/23.

Docket Numbers: ER23-1697-000.

Applicants: Tri-State Generation and Transmission Association, Inc.

Description: § 205(d) Rate Filing: Amendment to Rate Schedule FERC No. 19 to be effective 6/23/2023.

Filed Date: 4/24/23.

Accession Number: 20230424-5139.

Comment Date: 5 p.m. ET 5/15/23.

Docket Numbers: ER23-1698-000.

Applicants: Tri-State Generation and Transmission Association, Inc.

Description: Tariff Amendment: Notice of Cancellation of Rate Schedule FERC No. 168 to be effective 6/23/2023.

Filed Date: 4/24/23.

Accession Number: 20230424-5146.

Comment Date: 5 p.m. ET 5/15/23.

Docket Numbers: ER23-1699-000.

Applicants: California Independent System Operator Corporation.

Description: Compliance filing: 2023-04-24 Petition for Limited Waiver—Meter Data to be effective N/A.

Filed Date: 4/24/23.

Accession Number: 20230424-5191.

Comment Date: 5 p.m. ET 5/15/23.

Take notice that the Commission received the following electric securities filings:

Docket Numbers: ES23-42-000.

Applicants: GridLiance West LLC.

Description: Application Under Section 204 of the Federal Power Act for Authorization to Issue Securities of GridLiance West LLC.

Filed Date: 4/21/23.

Accession Number: 20230421-5249.

Comment Date: 5 p.m. ET 5/12/23.

Take notice that the Commission received the following public utility holding company filings:

Docket Numbers: PH23-11-000.

Applicants: Spire Inc.

Description: Spire Inc. submits FERC 65-A Exemption Notification.

Filed Date: 4/21/23.

Accession Number: 20230421-5248.

Comment Date: 5 p.m. ET 5/12/23.

Take notice that the Commission received the following qualifying facility filings:

Docket Numbers: QF23-872-000.

Applicants: Clarion Boards LLC.

Description: Form 556 of Clarion Boards LLC.

Filed Date: 4/24/23.

Accession Number: 20230424-5202.

Comment Date: 5 p.m. ET 5/15/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 24, 2023.
Debbie-Anne A. Reese,
Deputy Secretary.

[FR Doc. 2023-09040 Filed 4-27-23; 8:45 am]

BILLING CODE 6717-01-P